DEPARTMENT OF LABOR

Employment and Training Administration

[NAFTA-04286]

Poly One Corp. (Formerly The GEON Co., Denver Compound Plant Denver, Co. Including Temporary Workers of UNICCO Service Co. Employed at Poly One Corp. Amended Certification Regarding Eligibility to Apply for NAFTA-Transitional Adjustment Assistance

In accordance with section 250(A), Subchapter D, Chapter 2, Title II, of the Trade Act of 1974 (19 U.S.C. 2273), the Department of Labor issued a Certification for NAFTA Transitional Adjustment Assistance on January 31, 2001, applicable to workers of Poly One Corporation, (Formerly The Geon Company), Denver Compound Plant, Denver,Colorado. The notice was published in the Federal Register on March 2, 2001 (66 FR 13087).

At the request of the State agency, the Department reviewed the certification for workers of the subject firm. New findings show that the Department inadvertently excluded temporary workers of UNICCO Service Company, Denver, Colorado who were employed at Poly One Corporation, (Formerly The Geon Company), Denver Compound Plant, Denver Colorado. Information provided by the company shows that some employees of the subject firm were temporary workers from UNICCO Service Company to produce polyethylene plastics used for covering cable wires at the Denver, Colorado location.

Based on these findings, the Department is amending the certification to include temporary workers of UNICCO Service Company, Denver, Colorado employed at Poly One Corporation (formerly The Geon Company), Denver Compound Plant, Denver, Colorado.

The intent of the Department's certification is to include all workers of Poly One Corporation, (formerly The Geon Company), Denver Compound Plant, Denver, Colorado adversely affected by a shift of production to Canada.

The amended notice applicable to NAFTA—04286 is hereby issued as follows:

All workers of Poly One Corporation (formerly The Geon Company), Denver Compound Plant, Denver, Colorado including temporary workers of UNICCO Service Company producing polyethylene plastics at Poly One Corporation (formerly The Geon Company), Denver Compound Plant, Denver, Colorado who became totally or partially separated from employment on or after November 8, 1999 through January 31, 2003 are eligible to apply for NAFTA-TAA under Section 250 of the Trade Act of 1974.

Signed at Washington, DC this 8th day of March, 2001.
Linda G. Poole,
Program Manager, Division of Trade Adjustment Assistance.

[FR Doc. 01-6962 Filed 3-20-01; 8:45 am]

BILLING CODE 4510-30-M